FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 3, 2015.

A. Federal Reserve Bank of Cleveland (Nadine Wallman, Vice President) 1455 East Sixth Street, Cleveland, Ohio 44101-2566:

1. William Shanks, Versailles, Ohio, individually and The Shanks Family Control Group consisting of William Shanks, Margaret Shanks, Elizabeth Blevins, all of Versailles, Kentucky, and Willard Wickstrom, Louisville, Kentucky; to retain voting shares of Citizens Commerce Bancshares, and thereby indirectly retain voting shares of Citizens Commerce National Bank, both in Versailles, Kentucky.

B. Federal Reserve Bank of Chicago (Colette A. Fried, Assistant Vice President) 230 South LaSalle Street, Chicago, Illinois 60690-1414:

1. Sally F. Duncan, Mt. Zion, Illinois, individually and as trustee of the Henry M. B. Wilson Irrevocable Trust, Henry M.B. Wilson, Sullivan, Illinois, individually and as beneficiary with the power to remove any trustee of the Henry M. B. Wilson Irrevocable Trust, and the Henry M. B. Wilson Irrevocable Trust, Sullivan, Illinois; individually and all of the foregoing as a group acting in concert to acquire voting shares of Sullivan Bancshares, Inc., and thereby indirectly acquire voting shares of First National Bank of Sullivan, both in Sullivan, Illinois.

Board of Governors of the Federal Reserve System, February 11, 2015.
Michael J. Lewandowski,
Associate Secretary of the Board.

[FR Doc. 2015-03120 Filed 2-13-15; 8:45 am]

BILLING CODE 6210-01-P